DEPARTMENT OF THE INTERIOR

Fish and Wildlife Service

Endangered Species Recovery Permit Applications

AGENCY: Fish and Wildlife Service, Interior.

ACTION: Notice of receipt of permit applications; request for comment.

SUMMARY: We invite the public to comment on the following applications to conduct certain activities with endangered species.

DATES: Comments on these permit applications must be received on or before November 1, 2007.

ADDRESSES: Written data or comments should be submitted to the U.S. Fish and Wildlife Service, Endangered Species Program Manager, California/Nevada Operations Office (CNO), 2800 Cottage Way, Room W-2606, Sacramento, California, 95825 (telephone: (916) 414-6464; fax: (916) 414-6486). Please refer to the respective permit number for each application when submitting comments. All comments received, including names and addresses, will become part of the official administrative record and may be made available to the public.

FOR FURTHER INFORMATION CONTACT: Daniel Marquez, Fish and Wildlife Biologist, at the above CNO address, (telephone: (760) 431-9440; fax: (760) 431-9624).

SUPPLEMENTARY INFORMATION: The following applicants have applied for scientific research permits to conduct certain activities with endangered species pursuant to section 10(a)(1)(A) of the Endangered Species Act (16 U.S.C. 1531 et seq.). The U.S. Fish and Wildlife Service (“we”) solicits review and comment from local, State, and Federal agencies, and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-163017

Applicant: California Department of Fish and Game, Sacramento, California

The applicant requests a permit to take (survey, capture, handle, mark, collect biological samples, radio collar, translocate, and release) the Peninsular bighorn sheep (Ovis canadensis nelsonii) in conjunction with ecological research, population monitoring, and life history studies throughout the range of the species in San Diego, Imperial, and Riverside Counties, California for the purpose of enhancing its survival.

Permit No. TE-163012

Applicant: Aindrea Jensen, Petaluma, California

The applicant requests a permit to take (survey, capture, and release) the tidewater goby (Eucyclogobius newberryi) in conjunction with surveys for the purpose of enhancing their survival throughout the range of the species in California.

Permit No. TE-163662

Applicant: Coachella Valley Mosquito and Vector Control District, Indio, California

The applicant requests a permit to take (survey, collect, captive rear, captive propagate, and release to the wild) the desert pupfish (Cyprinodon macularius) in conjunction with ecological and disease control research in Riverside County, California, for the purpose of enhancing its survival.

Permit No. TE-163610

Applicant: The Nature Conservancy, Ventura, California

The applicant requests a permit to take (survey, capture, collect, PIT tag, biological sample, radio collar, captive breed, perform veterinary examinations, and release) the Santa Cruz Island Fox (Urocyon littoralis santacruzae) in conjunction with ecological, genetic, and reproductive research on Santa Cruz Island, Santa Barbara County, California, for the purpose of enhancing its survival.

Permit No. TE-815537

Applicant: Swaim Biological, Livermore, California

The applicant request an amendment to take (harass by survey, capture, and release) the California tiger salamander (Ambystoma californiense) in conjunction with surveys for the purpose of enhancing their survival throughout the range of the species in California.

We solicit public review and comment on each of these recovery permit applications. Our practice is to make comments, including names and home addresses of respondents, available for public review during regular business hours. Individual respondents may request that we withhold their home addresses from the record, which we will honor to the extent allowable by law. There also may be circumstances in which we would withhold from the record a respondent's identity, as allowable by law. If you wish us to withhold your name and/or address, you must state this prominently at the beginning of your comment, but you should be aware that we may be required to disclose your name and address pursuant to the Freedom of Information Act. However, we will not consider anonymous comments. We will make all submissions from organizations or businesses, and from individuals identifying themselves as representatives or officials of organizations or businesses, available for public inspection in their entirety. Comments and materials received will be available for public inspection, by appointment, during normal business hours at the above address.

Dated: September 26, 2007.
Michael Fris,
Acting Manager, California/Nevada Operations Office, Sacramento, California.

[FR Doc. E7-19401 Filed 10-1-07; 8:45 am]

BILLING CODE 4310-55-P